DEPARTMENT OF EDUCATION

Application for New Awards; Expanding Opportunity Through Quality Charter Schools Program (CSP)—Grants to Charter Management Organizations for the Replication and Expansion of High-Quality Charter Schools

Correction

In notice document 2017-00748, appearing on pages 4322 through 4332 in the issue of Friday, January 13, 2017, make the following corrections:

1. On page 4326, in the second column, in the seventh paragraph, beginning on the second line, “[INSERT DATE OF PUBLICATION IN THE Federal Register]” should read, “January 13, 2017.”

2. On the same page, in the third column, in the sixth paragraph, beginning on the second line, “[INSERT DATE 105 DAYS AFTER DATE OF PUBLICATION IN THE Federal Register]” should read, “April 28, 2017.”

[FR Doc. C1-2017-00748 Filed 1-24-17; 8:45 am]

BILLING CODE 1301-00-D